DEPARTMENT OF THE INTERIOR

National Park Service

60 Day Notice of Intention To Request Clearance of Collection of Information; Opportunity for Public Comment

AGENCY: Department of the Interior, National Park Service.

ACTION: Notice and request for comments.

SUMMARY: The America the Beautiful Pass Study will provide the National Park Service (NPS), park managers, and interagency partners (Bureau of Land Management, Bureau of Reclamation, Fish and Wildlife Service, USDA-Forest Service) with critical public input regarding pricing and benefits associated with the new America the Beautiful (ATB) Pass. Specifically the study will use surveys of recreationists, visitors to units of the National Park System and other public lands, potential visitors to units of the National Park System and other public lands, and current National Parks Pass or other federal recreation area pass holders to elicit (1) information about how individuals currently use passes, (2) opinions on how the ATB pass should be priced, (3) opinions about the benefits that the pass should provide, and (4) the factors that might influence an individual's decision to purchase an ATB pass. In addition, socio-economic information regarding current and potential visitors and pass holders is needed.

| Estimated numbers of: Burden | Estimated numbers of: Responses hours
America the Beautiful Pass Study | 3,605 | 1,272

Under provisions of the Paperwork Reduction Act of 1995 and 5 CFR Part 1320, Reporting and Recordkeeping Requirements, the National Park Service invites comments on the need for gathering the information in the proposed survey.

Comments are invited on: (1) The practical utility of the information being gathered; (2) the accuracy of the burden hour estimate; (3) ways to enhance the quality, utility, and clarity of the information to be collected; and (4) ways to minimize the burden to respondents, including use of automated information collection techniques or other forms of information technology.

DATES: Public comments will be accepted on or before August 22, 2005.

Send Comments to: Ms. Jane Moore, Fee Program Manager, National Park Service, Fee Program, 1849 C Street, NW., (Mail Stop 2608) Washington, DC 20240-0001.

FOR FURTHER INFORMATION CONTACT: Ms. Jane Moore, Fee Program Manager, National Park Service by telephone at 202-513-7132 or by electronic mail at Jane_Moore@.nps.gov.

SUPPLEMENTARY INFORMATION: Titles: America the Beautiful Pass Study.

Bureau Form Number: None.

OMB Number: To be requested.

Expiration Date: To be requested.

Type of request: New Collection.

Description of need: The Federal Lands Recreation Enhancement Act authorized the issuance of a new federal recreation pass, the America the Beautiful (ATB) pass. The ATB pass will take the place of the existing Golden Eagle Pass and the National Parks Pass and will provide similar benefits. The existing Golden Age and Golden Access passes will be replaced by ATB-senior and ATB-access passes. The primary purpose of the ATB pass is to provide convenient access, at a fair price, to federal recreation sites that charge fees. A secondary purpose is to provide opportunities for education and support for public lands and develop partnerships with organizations that support recreation and stewardship. Information from the public is needed in order to assure that the new ATB Pass is administered in a convenient way and provided at a fair price. Prior to issuance of the ATB pass, a price has to be established. The price selected needs to make sense in economic terms and be defensible and understandable to decision makers and the public. In order to be defensible the particular price selected will need to be backed up by a set of analyses. The price of the ATB pass should at least allow the government to break even in the sense that, on average, the sale of an ATB pass does not result in a revenue loss relative to the revenue that would be received absent the ability to purchase an annual pass. The expected price should also take into account individuals' willingness to pay for the convenience of using a pass as well as any altruistic motives they may have.

The factors that play a role in an individual's decision to purchase a pass include recreation patterns on public land, the relative price of the pass compared to purchasing daily (or weekly in some cases) entry, the benefits provided by the pass (e.g., number of individuals covered by a pass, whether the pass is per vehicle or per person, etc.), household income and other socioeconomic factors, the availability and prices of potential recreation substitutes, and perhaps the strength of any altruistic motives that might cause an individual to purchase the pass even though it might only be used on a limited basis. The strength of any altruistic motives could potentially be impacted by the quantity and quality of marketing associated with the pass.

This study will include several focus groups and a survey of current and potential pass holders.

Focus groups will be administered to gather information from recreationists about current and potential pricing and pass use. The focus group respondents will include individuals that have purchased one or more of the existing passes, which include the Golden Eagle, Golden Age, Golden Access, Duck Stamp, and National Park Pass. The focus groups will elicit information about how individuals use passes, views on how the ATB pass should be priced, views about the benefits that the pass should provide, and the factors that might influence an individual's decision to purchase a pass. The focus groups will be held in selected locations across the country. It is estimated that up to seven focus groups will be conducted with approximately 15 respondents each. Focus group sessions will take approximately one hour for a total burden of 105 hours.

The survey of current and potential pass holders will be used to obtain information about their pass use, motives for purchasing, and socioeconomic characteristics. The survey will be designed to obtain information that will assist in determining the value (including, specifically, willingness to pay for the convenience value associated with using a pass) individuals place on the existing passes and in establishing a price for the new ATB pass. In addition, the survey will gather information concerning the factors that might influence an individual's decision to purchase a pass. The survey will elicit information about the incremental value individuals place on an annual pass that provides access to all federal recreation sites compared to access to only NPS sites. Surveys will be conducted with approximately 3,500 individuals. The survey is estimated to take approximately 20 minutes per respondent for a total burden of 1,167 hours.

The combined burden for this study is estimated to be 1,272 hours.

Automated data collection: Data collection from respondents to the survey of pass users will include an automated option. It is estimated that up to half of the 3,500 respondents will chose the automated option. The focus groups will require face-to-face contact thus no automated data collection will take place in that portion of the study.

Description of respondents: Recreationists, visitors to units of the National Park System and other public lands, potential visitors to units of the National Park System and other public lands, and current National Parks Pass or other federal recreation area pass holders.

Estimated average number of respondents: 3,605 (105 for focus groups; 3,500 for survey).

Estimated average number of responses: 3,605 (105 for focus groups; 3,500 for survey).

Estimated average burden hours per response: One hour for focus group respondents; 1/3 hour for survey respondents.

Frequency of Response: 1 time per respondent.

Estimated annual reporting burden: 1,272 hours.

Leonard E. Stowe,
National Park Service Information Collection Clearance Officer.

[FR Doc. 05-12208 Filed 6-20-05; 8:45 am]

BILLING CODE 4312-52-P